DEPARTMENT OF HEALTH AND HUMAN SERVICES

Food and Drug Administration

[FDA 225-01-8001]

Memorandum of Understanding Between the United States Food and Drug Administration and National Fisheries Service, Ministry of Economy, Development, and Reconstruction, Republic of Chile Covering the Sanitary Control of Fresh and Frozen Molluscan Shellfish Exported From the Republic of Chile to the United States

AGENCY: Food and Drug Administration, HHS.

ACTION: Notice.

SUMMARY: The Food and Drug Administration (FDA) is providing notice of a memorandum of understanding (MOU) between FDA, Department of Health and Human Services, United States of America and the National Fisheries Service, Ministry of Economy, Development, and Reconstruction, Republic of Chile. This agreement renews the cooperative work arrangement concerning the safety and wholesomeness of fresh and frozen oysters, clams, and mussels exported to the United States from Chile, which expired by its terms on May 18, 1999. The purpose of this agreement is to assist in assuring aquacultural fresh or frozen molluscan shellfish exported from Chile and offered for import into the United States will continue to be safe and wholesome, and will be harvested, processed, transported, and labeled in accordance with the sanitation principles of the United States National Shellfish Sanitation Program and the U.S. Federal Food, Drug, and Cosmetic Act and other related public health laws.

DATES: The agreement became effective February 23, 2001.

FOR FURTHER INFORMATION CONTACT: Angel M. Suarez, Center for Food Safety and Applied Nutrition (HFS-628), Food and Drug Administration, 200 C St. SW., Washington, DC 20204, 202-401-7338.

SUPPLEMENTARY INFORMATION: In accordance with 21 CFR 20.108(c), which states that all written agreements and MOU’s between FDA and others shall be published in the Federal Register the agency is publishing notice of this MOU.

Dated: March 14, 2001.
Ann M. Witt,
Acting Associate Commissioner for Policy.

BILLING CODE 4160-01-S

[FR Doc. 01-7241 Filed 3-22-01; 8:45 am]

BILLING CODE 4160-01-C